DEPARTMENT OF COMMERCE

National Oceanic and Atmospheric Administration

50 CFR Part 648

[Docket No. 151211999-6343-02]

RIN 0648-XG836

Fisheries of the Northeastern United States; Northeast Multispecies Fishery; Gulf of Maine Cod and Witch Flounder Trip Limit Increases for the Common Pool Fishery

AGENCY: National Marine Fisheries Service (NMFS), National Oceanic and Atmospheric Administration (NOAA), Commerce.

ACTION: Temporary rule; inseason adjustment.

SUMMARY: This action increases the possession and trip limits of Gulf of Maine cod and witch flounder for Northeast multispecies common pool vessels for the remainder of the 2019 fishing year, in order to provide the common pool fishery greater opportunity to harvest, but not exceed, its annual quota for these stocks.

DATES: These possession and trip limit adjustments are effective March 13, 2019, through April 30, 2019.

FOR FURTHER INFORMATION CONTACT: Spencer Talmage, Fishery Management Specialist, 978-281-9232.

SUPPLEMENTARY INFORMATION:

Possession and Trip Limit Increase for Georges Bank Cod

The regulations at § 648.86(o) authorize the Regional Administrator to adjust the possession and trip limits for common pool vessels in order to help avoid overharvest or underharvest of the common pool quotas.

Based on most recent catch information, the common pool fishery has caught 5.3 mt of Gulf of Maine (GOM) cod, or approximately 44.9 percent of its 11.9 mt annual quota. Additionally, the common pool fishery has caught 5.2 mt of witch flounder, or approximately 28.2 percent of its 18.3 mt annual quota. At the current rate of fishing, the common pool fishery is not projected to fully harvest its annual quota for either stock by the end of the 2019 fishing year. Providing vessels an opportunity to possess and land greater amounts of catch should provide greater incentive to fish and more opportunity to catch available quota. Based on our review of past fishing effort, we project that a moderate increase in the possession and trip limit for each stock should provide additional fishing opportunities and flexibility to catch available quota while ensuring that the common pool does not exceed its annual quotas.

Effective March 13, 2019, the possession and trip limits of GOM cod and witch flounder are increased, as summarized in Table 1.

Table 1—Current and New Possession and Trip Limits
Stock | Permit | Current | New
GOM cod | A DAS | 50 lb (23 kg) per DAS, up to 100 lb (45 kg) per trip | 100 lb (45 kg) per DAS, up to 200 lb (91 kg) per trip.
| Handgear A | 50 lb (23 kg) per trip | 100 lb (45 kg) per trip.
| Handgear B | 25 lb (11 kg) per trip | 25 lb (11 kg) per trip.
| Small Vessel Category * | 50 lb (23 kg) per trip | 100 lb (45 kg) trip.
Witch flounder | A DAS | 400 lb (181 kg) per trip | 600 lb (272 kg) per trip.
| Handgear A
| Handgear B
| Small Vessel Category
* The Small Vessel Category trip limit of 300 lb (136 kg) of cod, yellowtail flounder, and haddock combined remains in place.

Weekly quota monitoring reports for the common pool fishery can be found on our website at: http://www.greateratlantic.fisheries.noaa.gov/ro/fso/MultiMonReports.htm. We will continue to monitor common pool catch through vessel trip reports, dealer-reported landings, VMS catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because this action relieves possession and landing restrictions, and delayed implementation would be impracticable and contrary to the public interest.

The regulations at § 648.86(o) authorize the Regional Administrator to adjust the possession and trip limits for common pool vessels in order to help avoid overharvest or underharvest of the common pool quotas.

The catch data used as the basis for this action only recently became available. The available analysis indicates that the increased possession and trip limit adjustments for GOM cod and witch flounder should help the fishery achieve the optimum yield (OY) for this stock. Any delay in this action would limit the benefits to common pool vessels that the increased landing and possession limits are intended to provide.

The time necessary to provide for prior notice and comment, and a 30-day delay in effectiveness, would keep NMFS from implementing the necessary possession and trip limit before the end of the fishing year on April 30, 2019, which could prevent the fishery from achieving the OY and cause negative economic impacts to the common pool fishery. This would undermine management objectives of the Northeast Multispecies Fishery Management Plan and cause unnecessary negative economic impacts to the common pool fishery. The public received prior notice and an opportunity to comment on the Regional Administrator's exercise of this authority. The fishing industry participants have experienced these adjustments and have become accustomed to this process. There is additional good cause to waive the delayed effective period because this action relieves restrictions on fishing vessels by increasing a trip limit.

Authority: 16 U.S.C. 1801 et seq.

Dated: March 8, 2019.
Alan D. Risenhoover,
Director, Office of Sustainable Fisheries, National Marine Fisheries Service.

[FR Doc. 2019-04620 Filed 3-12-19; 8:45 am]

BILLING CODE 3510-22-P